DEPARTMENT OF HEALTH AND HUMAN SERVICES

National Institutes of Health

Interagency Coordinating Committee on the Validation of Alternative Methods Communities of Practice Webinar on Emerging Approaches for Anchoring Biological Relevance of New Approach Methodologies; Notice of Public Webinar; Registration Information

AGENCY: National Institutes of Health, HHS.

ACTION: Notice.

SUMMARY: The Interagency Coordinating Committee on the Validation of Alternative Methods (ICCVAM) announces a public webinar “Emerging Approaches for Anchoring Biological Relevance of New Approach Methodologies.” The webinar is organized on behalf of ICCVAM by the National Toxicology Program Interagency Center for the Evaluation of Alternative Toxicological Methods (NICEATM). Interested persons may participate via the web meeting platform. Time will be allotted for questions from the audience. Information about the webinar and registration are available at https://ntp.niehs.nih.gov/go/commprac-2023.

DATES:

Webinar: January 30, 2023, 10:00 a.m. to approximately 12:00 noon EST.

Registration for Webinar: January 10, 2023, until 12:00 noon EST January 30, 2023. Registration to view the webinar is required.

ADDRESSES: Webinar web page: https://ntp.niehs.nih.gov/go/commprac-2023.

FOR FURTHER INFORMATION CONTACT: Dr. Nicole Kleinstreuer, Director, NICEATM, email: nicole.kleinstreuer@nih.gov, telephone: (984) 287-3150.

SUPPLEMENTARY INFORMATION:

Background: ICCVAM promotes the development and validation of toxicity testing methods that protect human health and the environment while replacing, reducing, or refining animal use. ICCVAM also provides guidance to test method developers and facilitates collaborations that promote the development of new test methods. To address these goals, ICCVAM will hold a Communities of Practice webinar on “Emerging Approaches for Anchoring Biological Relevance of New Approach Methodologies.”

“New approach methodologies” (NAMs) refers to approaches that can be used alone or in combination to provide information on chemical hazard and risk assessment without traditional animal tests. Traditional approaches to evaluating NAMs consider how well the results of chemical tests using NAMs correspond with the results of animal tests of the same chemicals. However, the usefulness of this approach is limited, especially when the animal results are variable, or the animal model does not adequately represent the species or effect of regulatory interest.

This webinar will discuss approaches to build confidence in NAMs that are based on evaluating the biological relevance of the NAM to the species of regulatory interest. Ongoing activities and key insights will be described in three presentations by speakers from the academic and private sector focusing on applications of small model organisms, organs-on-chips, and models of absorption, distribution, metabolism, and excretion. The preliminary agenda and additional information about presentations will be posted at https://ntp.niehs.nih.gov/go/commprac-2023 as available.

Webinar and Registration: This webinar is open to the public with time scheduled for questions by participants following each presentation. Registration for the webinar is required. Registration will open on or before January 10, 2023 and remain open through 12:00 noon EST on January 30, 2023. Registration is available at https://ntp.niehs.nih.gov/go/commprac-2023. Interested individuals are encouraged to visit this web page to stay abreast of the most current webinar information. Registrants will receive instructions on how to access and participate in the webinar in the email confirming their registration.

Background Information on ICCVAM and NICEATM: ICCVAM is an interagency committee composed of representatives from 17 federal regulatory and research agencies that require, use, generate, or disseminate toxicological and safety testing information. ICCVAM conducts technical evaluations of new, revised, and alternative safety testing methods and integrated testing strategies with regulatory applicability. ICCVAM also promotes the scientific validation and regulatory acceptance of testing methods that more accurately assess the safety and hazards of chemicals and products and replace, reduce, or refine animal use.

The ICCVAM Authorization Act of 2000 (42 U.S.C. 285l-3) establishes ICCVAM as a permanent interagency committee of the National Institute of Environmental Health Sciences and provides the authority for ICCVAM involvement in activities relevant to the development of alternative test methods. Additional information about ICCVAM can be found at https://ntp.niehs.nih.gov/go/iccvam.

NICEATM administers ICCVAM, provides support for ICCVAM-related activities, and conducts and publishes analyses and evaluations of data from new, revised, and alternative testing approaches. NICEATM and ICCVAM work collaboratively to evaluate new and improved testing approaches applicable to the needs of U.S. federal agencies. NICEATM and ICCVAM welcome the public nomination of new, revised, and alternative test methods and strategies for validation studies and technical evaluations. Additional information about NICEATM can be found at https://ntp.niehs.nih.gov/go/niceatm.

Dated: January 3, 2023.
Brian R. Berridge,
Associate Director, National Toxicology Program, National Institutes of Health.

[FR Doc. 2023-00147 Filed 1-6-23; 8:45 am]

BILLING CODE 4140-01-P